ENVIRONMENTAL PROTECTION AGENCY

40 CFR Parts 122 and 123

[EPA-HQ-OW-2022-0834; FRL-10123-05-OW]

RIN 2040-AG27

NPDES Small MS4 Urbanized Area Clarification; Withdrawal of Direct Final Rule

AGENCY: Environmental Protection Agency (EPA).

ACTION: Withdrawal of direct final rule.

SUMMARY: Due to the receipt of an adverse comment, the Environmental Protection Agency (EPA) is withdrawing the direct final rule “NPDES Small MS4 Urbanized Area Clarification,” published on December 2, 2022.

DATES: Effective February 22, 2023, the EPA withdraws the direct final rule published at 87 FR 73965, on December 2, 2022.

FOR FURTHER INFORMATION CONTACT: Heather Huddle, Water Permits Division (MC4203), Environmental Protection Agency, 1200 Pennsylvania Ave. NW, Washington, DC 20004; telephone number: (202) 564-7932; email address: huddle.heather@epa.gov.

SUPPLEMENTARY INFORMATION: On December 2, 2022, the EPA published a direct final rule (87 FR 73965). We stated in that direct final rule that if we received adverse comment by January 3, 2023 (extended to January 18, 2023 (87 FR 80079, December 29, 2022)), the direct final rule would not take effect and we would publish a timely withdrawal in the Federal Register. Because the EPA subsequently received adverse comment on that direct final rule, we are withdrawing the direct final rule.

The EPA published a parallel proposed rule on the same day (87 FR 74066, December 2, 2022) as the direct final rule, which proposed the same rule changes as the direct final rule. The proposed rule invited comment on the substance of these rule changes. The EPA will respond to comments as part of any final action it takes on the parallel proposed rule. As stated in the direct final rule and the parallel proposed rule, we will not institute a second comment period on this action.

List of Subjects

40 CFR Part 122

Environmental protection, Stormwater, Water pollution.

40 CFR Part 123

Environmental protection, Stormwater, Water pollution.

Michael S. Regan,
Administrator.

Accordingly, as of February 22, 2023, the EPA withdraws the direct final rule amending 40 CFR parts 122 and 123, which published at 87 FR 73965, on December 2, 2022.

[FR Doc. 2023-03590 Filed 2-21-23; 8:45 am]

BILLING CODE 6560-50-P